DEPARTMENT OF VETERANS AFFAIRS

Advisory Committee on Minority Veterans; Notice of Meeting

The Department of Veterans Affairs (VA) gives notice under the Public Law 92-463 (Federal Advisory Committee Act) that a meeting of the Advisory Committee on Minority Veterans will be held on April 23-26, 2012, at the below times and locations. The sessions will be open to the public on April 23 (9 a.m. to 11 a.m. and 1 p.m. to 5:30 p.m., April 24-25, and April 26 (3 p.m. to 4:30 p.m.).

April 23, from 8:30 a.m. to 5:30 p.m., Audie L. Murphy VA Medical Center, 7400 Merton Minter Boulevard, San Antonio, TX;

April 24, from 9 a.m. to 3:30 p.m., Fort Sam Houston National Cemetery, 1520 Harry Wurzbach Road, San Antonio, TX; and VA South Bexar County Community Outpatient Center, 4610 South Cross, San Antonio, TX;

April 25, from 8:30 a.m. to 5:30 p.m.; Audie L. Murphy VA Medical Center; April 26, from 1:30 p.m. to 4:30 p.m.; VA Health Care Center at Harlingen, 2701 South 77 Sunshine Strip, Harlingen, TX; and University of Texas Health Center, Regional Academic Health Center, 2102 Treasure Hills Boulevard, Harlingen, TX.

The purpose of the Committee is to advise the Secretary on the administration of VA benefits and services to minority Veterans, to assess the needs of minority Veterans and to evaluate whether VA compensation and pension, medical and rehabilitation services, memorial services outreach, and other programs are meeting those needs. The Committee will make recommendations to the Secretary regarding such activities subsequent to the meeting.

In the morning of April 23, the Committee will meet with key staff at the VA Medical Center to discuss services, benefits, delivery challenges, and successes. The Committee will convene a closed session in order to protect patient privacy as the Committee tours the VA Medical Center (VAMC) and Polytrauma Center. In the afternoon, the Committee will reconvene in open session to receive a briefing by Veterans Benefits Administration (VBA) staff; and meet with a panel of local Veteran Service Organizations to discuss San Antonio area Veterans' issues.

In the morning of April 24, the Committee will meet with key staff at the Fort Sam Houston National Cemetery (FSHNC) to discuss services, benefits, delivery challenges and successes. In the afternoon, the Committee will meet with key staff at the VA South Bexar County Community Outpatient Center. At 6:30 p.m., the Committee will hold a Veterans Town Hall meeting at the Veterans of Foreign Wars, Harlandale Memorial Post 4815, 3111 Commercial Avenue, San Antonio, TX.

In the morning of April 25, the Committee will conduct an exit briefing with leadership from the VAMC, VBA, and FSHNC. In the afternoon, the Committee will work on their report to the Secretary.

In the morning of April 26, select Committee members will convene in a closed session to protect patient privacy as they tour the VA Health Care Center at Harlingen (VAHCCH). They will reconvene in an open session to meet with key staff to discuss services, benefits, delivery challenges, and successes. In the afternoon, the Committee members will meet with a panel of local Veteran Service Organizations to discuss Harlingen area Veterans' issues; and will conduct an exit briefing with VAHCCH key staff. Closing portions of these sessions is in accordance with 5 U.S.C. 552b(c)(6).

Time will be allocated for receiving public comments on April 23, at 3 p.m. Public comments will be limited to three minutes each. Individuals wishing to make oral statements before the Committee will be accommodated on a first-come, first-served basis. Individuals who speak are invited to submit 1-2 page summaries of their comments at the time of the meeting for inclusion in the official meeting record.

The public may submit written statements for the Committee's review to Mr. Ronald Sagudan, Program Analyst, Center for Minority Veterans (00M), Department of Veterans Affairs, 810 Vermont Avenue NW, Washington, DC 20420, or email at Ronald.sagudan@va.gov. Any member of the public wishing to attend the meeting or seeking additional information should contact Mr. Sagudan or Mr. Dwayne E. Campbell at (202) 461-6191.

Dated: March 13, 2012.
By Direction of the Secretary.
Vivian Drake,
Committee Management Officer.

[FR Doc. 2012-6469 Filed 3-15-12; 8:45 am]

BILLING CODE P